DEPARTMENT OF TRANSPORTATION

Federal Aviation Administration

Withdrawal of Notice of Intent To Prepare an Environmental Impact Statement for the George Bush Intercontinental Airport, Houston, TX

AGENCY: Federal Aviation Administration (FAA), Department of Transportation (DOT).

ACTION: Notice.

SUMMARY: The FAA is issuing this notice to advise federal, state, and local government agencies and the public that the FAA is withdrawing its Notice of Intent to prepare an Environmental Impact Statement (EIS) for proposed capacity improvements at the George Bush Intercontinental Airport (IAH). The Houston Airport System (HAS), the sponsor of the proposed improvements, has requested that the EIS be terminated because the need for the proposed capacity improvements no longer exists. The HAS noted that arrival and departure delays at IAH have been decreasing and stated that IAH is currently one of the least delayed large hub airports in the United States.

FOR FURTHER INFORMATION CONTACT: Paul Blackford, by mail at Federal Aviation Administration, Airports Division, Attn: Paul Blackford, ASW-650, 2601 Meacham Boulevard, Fort Worth, Texas 76137, email at paul.blackford@faa.gov, or by telephone (817) 222-5607.

SUPPLEMENTARY INFORMATION: On April 9, 2009, the FAA issued a Notice of Intent in the Federal Register [74 FR 16255-16256] to prepare an EIS for proposed airfield improvements at IAH. The Airport Master Plan (AMP) prepared by the HAS documented that improvements were needed to increase airfield capacity and reduce projected delays. The FAA proceeded with preparing the EIS in accordance with the National Environmental Policy Act of 1969, as amended.

On July 30, 2010, the FAA received a letter from the HAS requesting that the preparation of the EIS be delayed. The HAS indicated that additional planning work was necessary to ensure that the assumptions used to develop the AMP remained valid. The HAS cited several reasons that contributed to their decision to conduct additional planning including the potential merger of United and Continental Airlines, the economic downturn, potential changes to aircraft fleet mix due to the airline merger, and the need to update the existing terminal concept. Therefore, the FAA suspended the preparation of the EIS and published a notice in the Federal Register stating such on September 16, 2010 [75 FR 56653].

On January 3, 2012, the HAS sent a letter to the FAA requesting that the EIS be terminated. The HAS cited statistics that show delays at IAH have been decreasing, stated that they do not expect significant increases in the number of aircraft operations at IAH, and did not wish to pursue a new runway at this time. In response to the HAS letter, the FAA is terminating the EIS.

Issued in Fort Worth, Texas, on May 16, 2012.
Kelvin L. Solco,
Manager, Airports Division.

[FR Doc. 2012-12947 Filed 5-25-12; 8:45 am]

BILLING CODE 4910-13-P